ENVIRONMENTAL PROTECTION AGENCY

40 CFR Part 51

[AH-FRL-7478-3]

RIN 2060-AF01

Revision to the Guideline on Air Quality Models: Adoption of a Preferred Long Range Transport Model and Other Revisions

Correction

In rule document 03-8542 beginning on page 18440 in the issue of Tuesday, April 15, 2003, make the following correction:

On the same page, in the first column, under the DATES heading, in the second line, “April 15, 2003” should read, “April 15, 2004.”

[FR Doc. C3-8542 Filed 5-12-03; 8:45 am]

BILLING CODE 1505-01-D

ENVIRONMENTAL PROTECTION AGENCY

[OPPT-2003-0018; FRL-7303-4]

National Tribal Conference on Environmental Management; Notice of Proposal Solicitation

Correction

In notice document 03-10168 beginning on page 20142 in the issue of Thursday, April 24, 2003, make the following correction:

On page 20142, in the third column, under the heading dates, in the second line, “June 23, 2003” should read, “July 23, 2003”.

[FR Doc. C3-10168 Filed 5-12-03; 8:45 am]

BILLING CODE 1505-01-D

DEPARTMENT OF TRANSPORTATION

Federal Aviation Administration

14 CFR Part 71

[Docket No. FAA-2003-14932; Airspace Docket No. 03-ACE-35]

Modification of Class E Airspace; Hays, KS

Correction

In rule document 03-11033 beginning on page 23581 in the issue of Monday, May 5, 2003, make the following correction:

§71.1 [Corrected]

On page 23582, in the second column, under the heading ACE KS E2 Hays, KS, in the first full paragraph, in the fourth line, “7 miles” should read, “6 miles.”

[FR Doc. C3-11033 Filed 5-12-03; 8:45 am]

BILLING CODE 1505-01-D